ENVIRONMENTAL PROTECTION AGENCY

[FRL-9479-01-OA]

Request for Nominations of Experts for the Review of Technical Support Document for the Social Cost of Greenhouse Gases

AGENCY: Environmental Protection Agency (EPA).

ACTION: Notice; request for nominations.

SUMMARY: The Environmental Protection Agency (EPA) National Center for Environmental Economics (NCEE), on behalf of the co-chairs of the Interagency Working Group on the Social Cost of Greenhouse Gases (IWG), including the Chair of the Council of Economic Advisors (CEA), the Director of the Office of Management and Budget (OMB), and the Director of the Office of Science and Technology Policy (OSTP), requests public nominations of scientific experts for the upcoming peer review of “Technical Support Document: Social Cost of Greenhouse Gas Estimates.” This document will undergo independent external scientific peer review managed by a contractor to EPA. Interested stakeholders will be provided 21 days to submit nominations for expert reviewers for consideration by the EPA contractor.

DATES: The 21-day public comment period to provide nominations begins January 25, 2022 and ends February 15, 2022. Comments must be received on or before February 15, 2022.

ADDRESSES: Submit your nominations by emailing them to SC-GHG@epa.gov (subject line: SC-GHG Peer Review Nomination) no later than February 15, 2022. To receive full consideration, nominations should include all of the information requested below. Please be advised that public comments are subject to release under the Freedom of Information Act, including communications on these nominations.

FOR FURTHER INFORMATION CONTACT:

For general information, please contact: Nathalie Simon, NCEE; email: simon.nathalie@epa.gov.

Questions about the peer review, including the nomination process, can be directed to SC-GHG@epa.gov (subject line: SC-GHG Peer Review Question) until a contractor is selected or by phone: (202)566-2347. Once selected, contractor information will be made available at https://www.epa.gov/environmental-economics/scghg-tsd-peer-review.

SUPPLEMENTARY INFORMATION:

I. Background

A robust and scientifically founded assessment of the positive and negative impacts that an action can be expected to have on society provides important insights in the policy-making process. Estimates of the social cost of carbon (SC-CO2), social cost of methane (SC-CH4), and social cost of nitrous oxide (SC-N2O), collectively called the Social Cost of Greenhouse Gases (SC-GHG), are used to estimate the value to society of marginal reductions in greenhouse gas emissions, or conversely, the social costs of increasing such emissions, in the policymaking process. Federal agencies began regularly incorporating SC-CO2 estimates in benefit-cost analyses conducted under Executive Order (E.O.) 12866 in 2008, following a court ruling in which an agency was ordered to consider the value of reducing carbon dioxide emissions in a rulemaking process. In 2009, an original interagency working group (IWG) was established to ensure that agencies had access to the best available science and to promote consistency in the estimated values. The IWG published SC-CO2 estimates in 2010. These estimates were updated in 2013. In August 2016, the IWG published a technical support document (TSD) providing SC-CH4 and SC-N2O estimates using methodologies that are consistent with the methodology underlying the SC-CO2 estimates.

On February 26, 2021, under Executive Order (E.O.) 13990, a re-constituted IWG issued an updated TSD that recommended interim estimates of the SC-CO2, SC-CH4, and SC-N2O while a more comprehensive updated set of SC-GHG estimates were developed. The interim SC-GHG estimates are reported in 2020 dollars, but otherwise use identical methods and inputs to those presented in the 2016 version of the TSD and its Addendum, including the same three peer-reviewed integrated assessment models. On May 7, 2021, OMB, on behalf of the co-chairs of the IWG, published a notice requesting public comment on the interim TSD as well as on how best to incorporate the latest peer-reviewed science and economics literature in developing an updated set of SC-GHG estimates.

A TSD with updated SC-GHG estimates is being developed and will be released for public comment and will undergo peer review. The forthcoming TSD will present a comprehensive update of the SC-GHG estimates taking into consideration the recommendations of the National Academies of Sciences, Engineering, and Medicine (as reported in Valuing Climate Damages: Updating Estimation of the Social Cost of Carbon Dioxide (2017)), other pertinent scientific literature, and the public comments received on the February 2021 interim TSD.

EPA is releasing this announcement to notify the public of upcoming peer review activities related to the forthcoming TSD containing updated SC-GHG estimates. This TSD will undergo independent, external scientific peer review managed by a contractor to EPA. EPA will provide the selected contractor with all reviewer nominations received in response to this notice. The contractor will both screen the nominees submitted as a result of this notice to ensure they have the types of disciplinary expertise listed in the notice and use traditional techniques (e.g., a literature search) to identify additional qualified candidates in the disciplines described below. The contractor will formulate a pool of at least (15) candidate external reviewers to provide independent external reviews of the TSD. The contractor will request comment on the pool of candidate external reviewers (i.e., List of Candidates) in a future public posting (as described below). After consideration of public comments on the List of Candidates, the contractor will select from this pool the final multi-disciplinary panel of five (5) to seven (7) peer reviewers in a manner consistent with EPA's Peer Review Handbook 4th Edition, 2015 (EPA/100/B-15/001). EPA will provide updates on the status of the peer review via the SC-GHG TSD peer review website (https://www.epa.gov/environmental-economics/scghg-tsd-peer-review). EPA encourages all interested stakeholders to register for receipt of future announcements by emailing SC-GHG@epa.gov (subject line: SC-GHG Peer Review Future Announcements). Until a contractor selection is made, specific questions or comments on the peer review process should also be directed to SC-GHG@epa.gov (subject line: SC-GHG Peer Review Question).

II. Information About This Peer Review

EPA is seeking nominations of nationally and internationally recognized experts with demonstrated expertise and research on in one or more of the following areas:

• Environmental economics with a focus on modeling the impacts of climate change, uncertainty, and/or discounting,

• climate science, with a focus on the estimation of future climatic variables resulting from different emission scenarios, and on the calculation of impacts resulting from elevated greenhouse gas concentrations,

• integrated assessment modeling, and

• benefit-cost analysis.

A balanced review panel includes candidates who possess the necessary domains of knowledge, the relevant scientific perspectives (which, among other factors, can be influenced by work history and affiliation), and the collective breadth of experience to adequately provide rigorous scientific peer review. In forming the list of candidate external reviewers (i.e., the List of Candidates), the contractor will consider the nominations submitted in response to this notice and use traditional techniques (e.g., a literature search) to identify additional qualified candidates in the disciplines listed above. Public comments on the List of Candidates will be solicited in a future announcement. The contractor will rely on public comments received on the List of Candidates, the information provided by the candidates themselves, and background information. Selection criteria to be used for panel membership include: (a) Scientific and/or technical expertise, knowledge, and experience (primary factors); (b) availability and willingness to serve; (c) absence of any potential organizational or personal conflicts of interest; and (d) skills working in committees, subcommittees and advisory panels.

Process and Deadline for Submitting Nominations: Any interested person or organization may nominate qualified individuals in the areas of expertise described above. Self-nominations are permitted. Submit your nominations by email to SC-GHG@epa.gov (subject line: SC-GHG Peer Review Nomination). To receive full consideration, nominations should include all of the requested information: Contact information about the person making the nomination; contact information about the nominee; the nominee's disciplinary and specific areas of expertise; the nominee's resume or curriculum vitae; sources of recent grant and/or contract support; and a biographical sketch of the nominee indicating current position, educational background, research activities, and recent service on other national advisory committees or national professional organizations. Persons having questions about the nomination procedures should contact SC-GHG@epa.gov (subject line: SC-GHG Peer Review Question), as noted above. EPA will acknowledge receipt of nominations and will refer all nominations to the contractor for evaluation. The names and biosketches of qualified nominees identified by respondents to this Federal Register notice, along with additional experts identified by the contractor, will be posted on the SC-GHG TSD peer review website and will be available for public comment. The process for public comment on the pool of nominees, as well as the date and location of public meetings related to this peer review, will be announced on the SC-GHG TSD peer review website, and through the SC-GHG TSD peer review contact list.

Dated: January 19, 2022.
Albert McGartland,
Director, National Center for Environmental Economics.

[FR Doc. 2022-01387 Filed 1-24-22; 8:45 am]

BILLING CODE 6560-50-P